DEPARTMENT OF TRANSPORTATION

Federal Aviation Administration

14 CFR Part 39

[Docket No. FAA-2009-0684; Directorate Identifier 2008-NM-149-AD; Amendment 39-16247; AD 2010-07-03]

RIN 2120-AA64

Airworthiness Directives; The Boeing Company Model 747-200C and -200F Series Airplanes

AGENCY: Federal Aviation Administration (FAA), Department of Transportation (DOT).

ACTION: Final rule.

SUMMARY: The FAA is superseding an existing airworthiness directive (AD), which applies to certain Model 747-200C and -200F series airplanes. That AD currently requires repetitive inspections to find fatigue cracking in the floor panel attachment fastener holes of the upper chord of certain upper deck floor beams in Section 41 (i.e., body station 520 and forward), and repair if necessary. The existing AD also provides optional modifications, which extend the threshold for initiating certain repetitive inspections. This new AD requires additional repetitive inspections to find fatigue cracking in the floor panel attachment fastener holes of the upper chord of certain other upper deck floor beams in Section 41 and Section 42 (i.e., aft of body station 520); repetitive inspections to find fatigue cracking in the permanent fastener holes of the upper chord of certain upper deck floor beams in Section 41; and related investigative and corrective actions. This new AD also provides a new optional modification, which terminates certain repetitive inspections. This AD results from new reports of cracking in the upper chord of the upper deck floor beams in Sections 41 and 42, and new analysis that shows the permanent fastener holes of the upper chord of certain upper deck floor beams in Section 41 are also susceptible to fatigue cracking. We are issuing this AD to detect and correct cracking in the upper chord of the upper deck floor beams. Such cracking could extend and sever the floor beams, which could result in rapid decompression and loss of controllability of the airplane.

DATES: This AD becomes effective May 7, 2010.

The Director of the Federal Register approved the incorporation by reference of certain publications listed in the AD as of May 7, 2010.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Docket Management Facility, U.S. Department of Transportation, Docket Operations, M-30, West Building Ground Floor, Room W12-140, 1200 New Jersey Avenue, SE., Washington, DC 20590.

FOR FURTHER INFORMATION CONTACT: Ivan Li, Aerospace Engineer, Airframe Branch, ANM-120S, FAA, Seattle Aircraft Certification Office, 1601 Lind Avenue, SW., Renton, Washington 98057-3356; telephone (425) 917-6437; fax (425) 917-6590.

SUPPLEMENTARY INFORMATION:

Discussion

The FAA issued a notice of proposed rulemaking (NPRM) to amend 14 CFR part 39 to include an AD that supersedes AD 2006-08-02, amendment 39-14556 (70 FR 18618, April 12, 2006). The existing AD applies to certain Model 747-200C and -200F series airplanes. That NPRM was published in the Federal Register on August 12, 2009 (74 FR 40529). That NPRM proposed to continue to require repetitive inspections to find fatigue cracking in the floor panel attachment fastener holes of the upper chord of certain upper deck floor beams in Section 41 (i.e., body station 520 and forward), and repair if necessary. That NPRM also proposed to continue to provide optional modifications, which extend the threshold for the initiation of certain repetitive inspections. That NPRM also proposed to add repetitive inspections to find fatigue cracking in the floor panel attachment fastener holes of the upper chord of certain other upper deck floor beams in Section 41 and Section 42 (i.e., aft of body station 520); repetitive inspections to find fatigue cracking in the permanent fastener holes of the upper chord of certain upper deck floor beams in Section 41; and related investigative and corrective actions. Additionally, that NPRM proposed to provide a new optional modification, which would terminate certain repetitive inspections.

Comments

We provided the public the opportunity to participate in the development of this AD. We have considered the comments that have been received on the NPRM from the single commenter.

Request To Revise Procedure Location Specified in Step (5) of Table 2 of the NPRM

Boeing requests that we revise Table 2 of the NPRM to update the location in the referenced service bulletin for the modification provided in Step (5) of Table 2 of the NPRM. Boeing points out that the modification referred to in paragraph (h)(2) of AD 2006-08-02, provided in Step (5) in Table 2 of the NPRM, was defined in Figure 5 of the original issue of Boeing Alert Service Bulletin 747-53A2439, dated July 5, 2001. Boeing further points out that the instructions for this modification were moved to Part 3 and Part 4 of the Work Instructions of Revision 2, dated July 17, 2008, of Boeing Alert Service Bulletin 747-53A2439.

We do not agree to revise Table 2 of this AD. Step (5) of Table 2 references paragraph (i)(2) of this AD, and requires only the fastener hole modification per Figure 5 and the open-hole high-frequency eddy current (HFEC) inspection per Part 1 of the Work Instructions of Boeing Alert Service Bulletin 747-53A2439, Revision 2, dated July 17, 2008. The fastener hole slot repair per Part 4 of the Work Instructions of Boeing Alert Service Bulletin 747-53A2439, Revision 2, dated July 17, 2008, is not required by paragraph (i)(2) of this AD. We note that the fastener hole slot repair per Part 4 of the Work Instructions of Boeing Alert Service Bulletin 747-53A2439, Revision 2, dated July 17, 2008, which is referenced in Part 2 of the Work Instructions of Boeing Alert Service Bulletin 747-53A2439, Revision 2, dated July 17, 2008, is required by paragraph (i)(1) of this AD. We have made no change to the final rule in this regard.

Request To Update Name of Boeing's Delegation Option Authorization Organization

Boeing requests that we revise paragraphs (h)(1) and (o)(4) of the NPRM to change “Boeing Commercial Airplanes Delegation Option Authorization Organization” to “Boeing Commercial Airplanes Organization Designation Authorization Organization.” Boeing points out that they changed the name of this organization at the end of August 2009.

We partially agree. Boeing Commercial Airplanes has received an Organization Designation Authorization (ODA), which replaces their previous designation as a Delegation Option Authorization holder. We have revised paragraph (o)(4) of this AD to delegate the authority to approve an alternative method of compliance for any repair required by this AD to the Boeing Commercial Airplanes ODA rather than an Authorized Representative under the former Delegation Option Authorization (DOA) program. However, we have also revised paragraph (h)(1) of this AD to reference paragraph (o) of this AD and to continue to provide allowance for those operators that have used a repair approved by a Boeing Company Designated Engineering Representative (DER) or by an Authorized Representative for the Boeing Commercial Airplanes DOA.

Explanation of Changes Made to This AD

We have revised this AD to identify the legal name of the manufacturer as published in the most recent type certificate data sheet for the affected airplane models.

Conclusion

We have carefully reviewed the available data, including the comments that have been received, and determined that air safety and the public interest require adopting the AD with the changes described previously. We have determined that these changes will neither increase the economic burden on any operator nor increase the scope of the AD.

Explanation of Change to Costs of Compliance

Since issuance of the original NPRM, we have increased the labor rate used in the Costs of Compliance from $80 per work-hour to $85 per work-hour. The Costs of Compliance information, below, reflects this increase in the specified hourly labor rate.

Costs of Compliance

There are about 68 airplanes of the affected design in the worldwide fleet. The following table provides the estimated costs for U.S. operators to comply with this AD.

Estimated Costs
Action | Work hours | Average labor rate per hour | Cost per airplane | Number of U.S.-registered airplanes | Fleet cost
Inspections (required by AD 2006-08-02) | 29 | $85 | $2,465 per inspection cycle | 25 | $61,625 per inspection cycle.
Inspection of Area 5 and permanent fastener hole in Areas 1, 2, 3, and 4 (new required action) | 78 | 85 | $6,630 per inspection cycle | 25 | $165,750 per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14556 (70 FR 18618, April 12, 2006) and by adding the following new airworthiness directive (AD):

2010-07-03 The Boeing Company: Amendment 39-16247. Docket No. FAA-2009-0684; Directorate Identifier 2008-NM-149-AD.

Effective Date

(a) This AD becomes effective May 7, 2010.

Affected ADs

(b) This AD supersedes AD 2006-08-02, Amendment 39-14556.

Applicability

(c) This AD applies to The Boeing Company Model 747-200C and -200F series airplanes, certificated in any category, as identified in Boeing Alert Service Bulletin 747-53A2439, Revision 2, dated July 17, 2008.

Subject

(d) Air Transport Association (ATA) of America Code 53: Fuselage.

Unsafe Condition

(e) This AD results from new reports of cracking in the upper chord of the upper deck floor beams in Sections 41 and 42, and new analysis that shows the permanent fastener holes of the upper chord of certain upper deck floor beams in Section 41 are also susceptible to fatigue cracking. We are issuing this AD to detect and correct cracking in the upper chord of the upper deck floor beams. Such cracking could extend and sever the floor beams, which could result in rapid decompression and loss of controllability of the airplane.

Compliance

(f) You are responsible for having the actions required by this AD performed within the compliance times specified, unless the actions have already been done.

Requirements of AD 2006-08-02

Initial Compliance Time at a New Reduced Threshold

(g) At the earliest of the times specified in paragraphs (g)(1) through (g)(3) of this AD, do the inspection required by paragraph (h) of this AD.

(1) Before the accumulation of 22,000 total flight cycles, or within 1,000 flight cycles after March 15, 2004 (the effective date of AD 2004-03-11, which was superseded by AD 2006-08-02), whichever occurs later.

(2) For airplanes with 17,000 or more total flight cycles as of May 17, 2006 (the effective date of AD 2006-08-02): Before the accumulation of 18,000 total flight cycles, or within 90 days after May 17, 2006, whichever occurs later.

(3) For airplanes with fewer than 17,000 total flight cycles as of May 17, 2006: Before the accumulation of 15,000 total flight cycles, or within 1,000 flight cycles after May 17, 2006, whichever occurs later.

Inspections at Reduced Intervals for Certain Floor Beams and Repair

(h) Do the applicable inspection to find fatigue cracking in the upper chord of the upper deck floor beams as specified in Part 1 (Open-Hole High Frequency Eddy Current (HFEC) Inspection Method) or Part 2 (Surface HFEC Inspection Method) of the Work Instructions of Boeing Alert Service Bulletin 747-53A2439, dated July 5, 2001. Do the inspections per the Boeing Alert Service Bulletin 747-53A2439, dated July 5, 2001, except as provided by paragraph (k) of this AD. Any combination of the applicable inspection methods specified in Parts 1 and 2 may be used, provided that the corresponding repetitive inspection interval is used.

(1) If any crack is found, before further flight, repair per Part 3 (Upper Chord Repair) of the Work Instructions of Boeing Alert Service Bulletin 747-53A2439, dated July 5, 2001; except where Boeing Alert Service Bulletin 747-53A2439, dated July 5, 2001, specifies to contact Boeing for appropriate action, before further flight, repair using a method approved in accordance with the procedures specified in paragraph (o) of this AD or repair according to data meeting the certification basis of the airplane approved by a Boeing Company Designated Engineering Representative (DER) or by an Authorized Representative for the Boeing Commercial Airplanes Delegation Option Authorization Organization. For a repair method to be approved by the Manager, Seattle Aircraft Certification Office (ACO), FAA, as required by this paragraph, the Manager's approval letter must specifically reference this AD. Do the applicable inspection of the repaired area per Part 1 of the Work Instructions of Boeing Alert Service Bulletin 747-53A2439, dated July 5, 2001, at the applicable time per Part 3 of the Work Instructions of Boeing Alert Service Bulletin 747-53A2439, dated July 5, 2001, and repeat the applicable inspection at the applicable interval per Figure 1 of Boeing Alert Service Bulletin 747-53A2439, dated July 5, 2001.

(2) If no crack is found, repeat the applicable inspection per paragraph (h) of this AD at the applicable time specified in paragraphs (h)(2)(i) through (h)(2)(iii) of this AD. As an option to the repetitive inspections, accomplishment of paragraph (i)(1) or (i)(2) of this AD, before further flight, extends the threshold for the initiation of the repetitive inspections required by this paragraph.

(i) If the immediately preceding inspection was conducted using an open-hole HFEC inspection method: Conduct the next inspection of that area within 3,000 flight cycles of the last inspection.

(ii) If the immediately preceding inspection was conducted using a surface HFEC inspection method at stations 340 through 420 inclusive and station 500: Conduct the next inspection of that area within 750 flight cycles of the last inspection.

(iii) If the immediately preceding inspection was conducted using a surface HFEC inspection method at stations 440 and 520: Conduct the next inspection of that area at the earlier of the times specified in paragraphs (h)(2)(iii)(A) and (h)(2)(iii)(B) of this AD, and thereafter at intervals not to exceed 250 flight cycles.

(A) Within 750 flight cycles since the last surface HFEC inspection required by paragraph (h) of this AD.

(B) Within 250 flight cycles after May 17, 2006.

Optional Repair/Modification

(i) For areas on which the inspection required by paragraph (h) of this AD is done per Part 1 of the Work Instructions of Boeing Alert Service Bulletin 747-53A2439, dated July 5, 2001; and on which no cracking is found: Accomplishment of the actions specified in either paragraph (i)(1) or (i)(2) of this AD extends the threshold for the initiation of the repetitive inspections required by paragraph (h)(2) of this AD. For areas on which the inspection required by paragraph (h) of this AD is done per Part 2 of Boeing Alert Service Bulletin 747-53A2439, dated July 5, 2001; and on which no cracking is found: Accomplishment of the actions specified in paragraph (i)(1) of this AD extends the threshold for the initiation of the repetitive inspections required by paragraph (h)(2) of this AD.

(1) Do the applicable repair per Part 3 of the Work Instructions of Boeing Alert Service Bulletin 747-53A2439, dated July 5, 2001, except as provided by paragraph (k) of this AD. At the applicable time specified in Table 1 of Part 3 of the Work Instructions of Boeing Alert Service Bulletin 747-53A2439, dated July 5, 2001, do the applicable inspection of the repaired area per Part 1 of the Work Instructions of Boeing Alert Service Bulletin 747-53A2439, dated July 5, 2001. Repeat the inspection thereafter within the applicable interval of 3,000 flight cycles per Figure 1 of Boeing Alert Service Bulletin 747-53A2439, dated July 5, 2001.

(2) Do the modification of the attachment hole of the floor panel per Figure 5 of Boeing Alert Service Bulletin 747-53A2439, dated July 5, 2001, except as provided by paragraph (k) of this AD. Within 10,000 flight cycles after accomplishment of the modification, do the inspection of the modified area per Part 1 of the Work Instructions of Boeing Alert Service Bulletin 747-53A2439, dated July 5, 2001. Repeat the inspection thereafter within the applicable interval of 3,000 flight cycles per Figure 1 of Boeing Alert Service Bulletin 747-53A2439, dated July 5, 2001.

Determining the Number of Flight Cycles for Compliance Time

(j) For the purposes of calculating the compliance threshold and repetitive intervals for actions required by paragraph (g), (h), or (i) of this AD: As of May 17, 2006 (the effective date of AD 2006-08-02), all flight cycles, including the number of flight cycles in which cabin differential pressure is at 2.0 pounds per square inch (psi) or less, must be counted when determining the number of flight cycles that have occurred on the airplane.

New Requirements of This AD

Applicable Revisions of Service Bulletins

(k) Use the information in Tables 1 and 2 of this AD, at the applicable time specified in paragraphs (k)(1) and (k)(2) of this AD, to determine the part of the applicable service bulletin to use to accomplish the actions required by this AD.

(1) On or after May 17, 2006, but before the effective date of this AD, use only the service information listed in Table 1 or Table 2 of this AD.

Table 1—Service Information Given in Boeing Alert Service Bulletin 747-53A2439, Revision 1, Dated March 10, 2005
Do— | In accordance with—
(1) The actions required by paragraph (h) of this AD | Parts 1 and 2 of the Work Instructions of Boeing Alert Service Bulletin 747-53A2439, Revision 1, dated March 10, 2005; as applicable.
(2) The applicable inspection of the repaired area required by paragraph (h)(1) of this AD | Parts 1 and 6 of the Work Instructions of Boeing Alert Service Bulletin 747-53A2439, Revision 1, dated March 10, 2005; as applicable; at the applicable time specified in Table 1 of Part 3 of the Work Instructions of that service bulletin.
(3) The actions required by paragraph (i)(1) of this AD | Parts 1, 3, and 6 of the Work Instructions of Boeing Alert Service Bulletin 747-53A2439, Revision 1, dated March 10, 2005; as applicable.
(4) The actions required by paragraph (i)(2) of this AD | Figure 5 and Part 1 of the Work Instructions of Boeing Alert Service Bulletin 747-53A2439, Revision 1, dated March 10, 2005; as applicable.

(2) On or after the effective date of this AD, use only the service information listed in Table 2 of this AD.

Table 2—Service Information Given in Boeing Alert Service Bulletin 747-53A2439, Revision 2, Dated July 17, 2008
Do— | In accordance with—
(1) The actions required by paragraph (h) and (l) of this AD | Part 1 (open-hole or surface HFEC inspection, as applicable) of the Work Instructions of Boeing Alert Service Bulletin 747-53A2439, Revision 2, dated July 17, 2008.
(2) The applicable inspection of the repaired area required by paragraph (h)(1) of this AD | Part 1 (open-hole HFEC inspection only) and Part 5 of the Work Instructions of Boeing Alert Service Bulletin 747-53A2439, Revision 2, dated July 17, 2008; at the applicable time specified in Table 1 of Part 2 of the Work Instructions of that service bulletin.
(3) The applicable repair required by paragraph (h)(1) of this AD | Part 2 (upper chord repair at floor panel attach holes) of the Work Instructions of Boeing Alert Service Bulletin 747-53A2439, Revision 2, dated July 17, 2008.
(4) The actions required by paragraph (i)(1) of this AD | Part 1 (open-hole HFEC inspection only), Part 2, and Part 5 of the Work Instructions of Boeing Alert Service Bulletin 747-53A2439, Revision 2, dated July 17, 2008.
(5) The actions required by paragraph (i)(2) of this AD | Figure 5 and Part 1 (open-hole HFEC inspection only) of the Work Instructions of Boeing Alert Service Bulletin 747-53A2439, Revision 2, dated July 17, 2008.

New Inspections and Related Investigative and Corrective Actions

(l) For all airplanes, except as provided by paragraphs (k)(1) and (k)(2) of this AD: At the applicable time specified in Paragraph 1.E., “Compliance,” of Boeing Alert Service Bulletin 747-53A2439, Revision 2, dated July 17, 2008, do the applicable open-hole or surface HFEC inspections for fatigue cracking in the upper chord of the upper deck floor beams in Area 5, and the inspection for fatigue cracking in the permanent fastener holes of the upper chord of certain upper deck floor beams in Areas 1, 2, 3, and 4, in accordance with the Accomplishment Instructions of Boeing Alert Service Bulletin 747-53A2439, Revision 2, dated July 17, 2008. Do all applicable related investigative and corrective actions before further flight. Repeat the applicable inspection thereafter at the applicable interval specified in Paragraph 1.E., “Compliance,” of Boeing Alert Service Bulletin 747-53A2439, Revision 2, dated July 17, 2008.

(1) Where Boeing Alert Service Bulletin 747-53A2439, Revision 2, dated July 17, 2008, specifies a compliance time relative to the date of issuance of that service bulletin, this AD requires compliance within the specified compliance time after the effective date of this AD.

(2) Where Boeing Alert Service Bulletin 747-53A2439, Revision 2, dated July 17, 2008, specifies contacting Boeing for repair data: Before further flight, repair using a method approved in accordance with the procedures specified in paragraph (o) of this AD.

Optional New Modification for Areas 1, 2, 3, and 4

(m) For areas 1, 2, 3, and 4 as defined in Boeing Alert Service Bulletin 747-53A2439, Revision 2, dated July 17, 2008: Doing the modification and post-modification actions specified in Boeing Alert Service Bulletin 747-53A2696, dated October 16, 2008, terminates the repetitive inspection requirements of paragraphs (g) and (h) of this AD. Doing the modification and post-modification actions specified in Boeing Alert Service Bulletin 747-53A2696, dated October 16, 2008, terminates the repetitive inspection requirements of paragraph (l) of this AD, except at the upper deck floor beam at body station (BS) 460 and 480 and the upper deck floor beams aft of BS 520.

No Reporting Requirement

(n) Although Boeing Alert Service Bulletin 747-53A2439, Revision 1, dated March 10, 2005; and Boeing Alert Service Bulletin 747-53A2439, Revision 2, dated July 17, 2008; specify to submit certain information to the manufacturer, this AD does not include that requirement.

Alternative Methods of Compliance (AMOCs)

(o)(1) The Manager, Seattle ACO, FAA, has the authority to approve AMOCs for this AD, if requested using the procedures found in 14 CFR 39.19. Send information to ATTN: Ivan Li, Aerospace Engineer, Airframe Branch, ANM-120S, FAA, Seattle Aircraft Certification Office, 1601 Lind Avenue, SW., Renton, Washington 98057-3356; telephone (425) 917-6437; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) AMOCs approved previously in accordance with AD 2006-08-02, are approved as AMOCs for the corresponding provisions of this AD.

(4) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

Material Incorporated by Reference

(p) You must use Boeing Alert Service Bulletin 747-53A2439, Revision 2, dated July 17, 2008, to do the actions required by this AD, unless the AD specifies otherwise. If you accomplish the new optional actions specified by this AD, you must use Boeing Alert Service Bulletin 747-53A2696, dated October 16, 2008, to perform those actions, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on March 17, 2010.
Ali Bahrami,
Manager, Transport Airplane Directorate, Aircraft Certification Service.

[FR Doc. 2010-6546 Filed 4-1-10; 8:45 am]

BILLING CODE 4910-13-P